DEPARTMENT OF ENERGY

Federal Energy Regulatory Commission

Combined Notice of Filings #2

Take notice that the Commission received the following electric rate filings:

Docket Numbers: ER17-256-015; ER17-242-014; ER17-243-014; ER17-245-014; ER17-652-014.

Applicants: Lightstone Marketing LLC, Waterford Power, LLC, Lawrenceburg Power, LLC, Gavin Power, LLC, Darby Power, LLC.

Description: Notice of Non-Material Change in Status of Darby Power, LLC, et al.

Filed Date: 11/2/22.

Accession Number: 20221102-5197.

Comment Date: 5 p.m. ET 11/23/22.

Docket Numbers: ER22-2818-001.

Applicants: PJM Interconnection, L.L.C.

Description: Tariff Amendment: Amendment to ISA, SA No. 6594; Queue Nos. AE2-334 & AG1-103 Correction to Filing to be effective 8/9/2022.

Filed Date: 11/3/22.

Accession Number: 20221103-5088.

Comment Date: 5 p.m. ET 11/25/22.

Docket Numbers: ER23-360-000.

Applicants: PJM Interconnection, L.L.C.

Description: § 205(d) Rate Filing: Original UCSA, Service Agreement No. 6676; Queue Position J799 to be effective 10/5/2022.

Filed Date: 11/3/22.

Accession Number: 20221103-5034.

Comment Date: 5 p.m. ET 11/25/22.

Docket Numbers: ER23-361-000.

Applicants: PJM Interconnection, L.L.C.

Description: § 205(d) Rate Filing: Original ISA, Service Agreement No. 6675; Queue No. AE1-225 to be effective 10/4/2022.

Filed Date: 11/3/22.

Accession Number: 20221103-5039.

Comment Date: 5 p.m. ET 11/25/22.

Docket Numbers: ER23-362-000.

Applicants: Avista Corporation.

Description: Compliance Filing for Order No. 676-J of Avista Corporation.

Filed Date: 11/2/22.

Accession Number: 20221102-5194.

Comment Date: 5 p.m. ET 11/23/22.

Docket Numbers: ER23-363-000.

Applicants: PJM Interconnection, L.L.C.

Description: § 205(d) Rate Filing: First Revised Service Agreement No. 5814, Queue No. AD1-041/AE1-190/AE1-191 to be effective 10/5/2022.

Filed Date: 11/3/22.

Accession Number: 20221103-5040.

Comment Date: 5 p.m. ET 11/25/22.

Docket Numbers: ER23-364-000.

Applicants: PJM Interconnection, L.L.C.

Description: § 205(d) Rate Filing: Revisions to Sch. 12-Appx A: October 2022 RTEP, 30-Day Comment Period Requested to be effective 2/1/2023.

Filed Date: 11/3/22.

Accession Number: 20221103-5064.

Comment Date: 5 p.m. ET 11/25/22.

Docket Numbers: ER23-365-000.

Applicants: Calhoun Power Company, LLC.

Description: Tariff Amendment: Notice of Cancellation of Market-Based Rate Tariff to be effective 11/4/2022.

Filed Date: 11/3/22.

Accession Number: 20221103-5078.

Comment Date: 5 p.m. ET 11/25/22.

Docket Numbers: ER23-366-000.

Applicants: PJM Interconnection, L.L.C.

Description: § 205(d) Rate Filing: ISA, SA No. 2782; Queue No. W3-002 to be effective 2/2/2011.

Filed Date: 11/3/22.

Accession Number: 20221103-5083.

Comment Date: 5 p.m. ET 11/25/22.

Docket Numbers: ER23-367-000.

Applicants: OnPoint Energy Illinois, LLC.

Description: Baseline eTariff Filing: Market-Based Rate Application and Request for Expedited Action to be effective 11/4/2022.

Filed Date: 11/3/22.

Accession Number: 20221103-5093.

Comment Date: 5 p.m. ET 11/25/22.

Docket Numbers: ER23-368-000.

Applicants: OnPoint Energy Ohio LLC.

Description: Baseline eTariff Filing: Market-Based Rate Application and Request for Expedited Action to be effective 11/4/2022.

Filed Date: 11/3/22.

Accession Number: 20221103-5098.

Comment Date: 5 p.m. ET 11/25/22.

Docket Numbers: ER23-369-000.

Applicants: OnPoint Energy Pennsylvania, LLC.

Description: Baseline eTariff Filing: Market-Based Rate Application and Request for Expedited Action to be effective 11/4/2022.

Filed Date: 11/3/22.

Accession Number: 20221103-5099.

Comment Date: 5 p.m. ET 11/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2022.
Debbie-Anne A. Reese,
Deputy Secretary.

[FR Doc. 2022-24439 Filed 11-8-22; 8:45 am]

BILLING CODE 6717-01-P